DEPARTMENT OF ENERGY

Federal Energy Regulatory Commission

[Docket No. EC04-90-000, et al.]

Oregon Electric Utility Company, et al.; Electric Rate and Corporate Filings

December 10, 2004.

The following filings have been made with the Commission. The filings are listed in ascending order within each docket classification.

1. Oregon Electric Utility Company and Portland General Electric Company

[Docket No. EC04-90-000]

Take notice that on December 7, 2004, Portland General Electric Company (PGE) and Oregon Electric Utility Company, L.L.C. (collectively, Applicants) filed pursuant to section 203 of the Federal Power Act and part 33 of the Commission's regulations to amend their April 7, 2004, application for approval of the transfer of jurisdictional facilities. In particular, PGE states that the Applicants proposed to implement a Market Monitoring Plan simultaneously with the acquisition of PGE by Oregon Electric.

Comment Date: 5 p.m. Eastern Time on December 20, 2004.

2. California Independent System Operator Corporation

[Docket Nos. EL04-133-002 and ER04-1198-002 (Not Consolidated)]

Take notice that on December 6, 2004, the California Independent System Operator Corporation (ISO) submitted a filing in compliance with the Commission's order issued November 5, 2004, in Docket Nos. EL04-133-001 and ER04-1198-001, 109 FERC ¶ 61,153. The ISO states that this filing has been served on all parties on the official service lists in these dockets. In addition, the ISO also states that it has posted the filing on the ISO home page.

Comment Date: 5 p.m. Eastern Time on December 27, 2004.

3. City of Vernon, California

[Docket No. EL05-40-000]

Take notice that on December 7, 2004, the City of Vernon, California (Vernon) submitted for filing the annual update to its transmission revenue balancing account adjustment and amendments to Appendix I of its transmission owner tariff, to reflect that update and to note the status of Vernon's base transmission revenue requirement. Vernon also states that pursuant to paragraph 1.4 of the settlement approved in Docket No. EL02-103, 102 FERC ¶ 61,141 (Feb. 5, 2003), Vernon is providing to the California Independent System Operator Corporation (ISO) on a confidential basis for ISO review and verification, and submitting to the Commission on a confidential basis under 18 CFR 388.112, a volume of certain confidential data. Non-confidential, redacted versions of this data have also been filed with the Commission and served. Vernon requests an effective date of January 1, 2005.

Vernon states that copies of this filing have been served on the California Independent System Operator Corporation and the other Participating Transmission Owners, as well as on all individuals on the service list in Commission Docket No. EL04-34.

Comment Date: 5 p.m. Eastern Time on December 28, 2004.

4. Avista Corporation, Avista Energy, Inc., Spokane Energy, LLC, and Avista Turbine Power, Inc.

[Docket Nos. ER99-1435-008, ER96-2408-020, ER98-4336-009, and ER00-1814-003]

Take notice that on December 7, 2004, Avista Corporation d/b/a Avista Utilities, Avista Energy, Inc., Spokane Energy, LLC, and Avista Turbine Power, Inc. filed an amendment to their generation market power analysis in accordance with the Commission letter order issued November 16, 2004 in Docket Nos. ER99-1435-006, ER96-2408-019, ER98-4336-008 and ER00-1814-002.

Comment Date: 5 p.m. Eastern Time on December 28, 2004.

5. Hardee Power Partners Limited

[Docket Nos. ER99-2341-004 and ER05-247-001]

Take notice that, on December 6, 2004, Hardee Power Partners Limited (Hardee Power) submitted an amendment to the compliance filing it made in Docket Nos. ER99-2341-003 and ER05-247-000 on November 9, 2004. Hardee Power states that the amendment reflects ministerial modifications to Hardee Power's proposed revised market based rate attached to the November 9 filing by clarifying that it will not sell power to affiliated franchised public utilities without prior FERC approval and the effective date of the market behavior rules.

Hardee Power states that copies of the filing were served on parties on the official service list in the above-captioned proceeding.

Comment Date: 5 p.m. Eastern Time on December 27, 2004.

6. PPL Southwest Generation Holdings, LLC

[Docket Nos. ER01-1870-005 and ER01-1870-003]

Take notice that, on December 7, 2004, PPL Southwest Generation Holdings, LLC filed with the Commission a second supplement to its triennial updated market power analysis in compliance with the Commission's letter order issued November 16, 2004, in Docket Nos. ER01-1870-002 and ER01-1870-003.

PPL Southwest Generation Holdings, LLC states that copies of the filing were served on parties on the official service list.

Comment Date: 5 p.m. Eastern Time on December 28, 2004.

7. PJM Interconnection, L.L.C.

[Docket No. ER04-1218-001]

Take notice that on December 6, 2004, PJM Interconnection, L.L.C. (PJM), submitted for filing an amendment to its September 13, 2004, filing of an executed interconnection service agreement (ISA) among PJM, Pennsylvania Windfarms, Inc., and Pennsylvania Electric Company, a FirstEnergy Company, and a notice of cancellation of an interconnection service agreement that has been superseded in response to the Commission's letter order issued November 5, 2004, PJM Interconnection, L.L.C., in Docket No. ER04-1218-000.

PJM states that copies of this filing were served upon the parties to the agreement and the state regulatory commissions within the PJM region.

Comment Date: 5 p.m. Eastern Time on December 27, 2004.

6. Mystic I, LLC, Mystic Development, LLC, and Fore River Development, LLC

[Docket No. ER04-1265-002]

Take notice that, on December 8, 2004, Mystic I, LLC, Mystic Development, LLC and Fore River Development, LLC (collectively, the Project Companies) submitted a compliance filing pursuant to the Commission's unpublished letter order issued November 24, 2004 in Docket Nos. ER04-1265-000 and ER04-1265-001.

The Project Companies state that copies of the filing were served on parties on the official service list in the above-captioned proceeding.

Comment Date: 5 p.m. Eastern Time on December 29, 2004.

7. Upper Peninsula Power Company

[Docket No. ER05-89-000]

Take notice that on December 7, 2004, Upper Peninsula Power Company (UPPCO) requested that the Commission defer action on its October 28, 2004 filing in Docket No. ER05-89-000.

UPPCO states that copies of the filing were served upon the PJM Interconnection, L.L.C., the Midwest Independent Transmission System Operator, Inc. and the Michigan Public Service Commission.

Comment Date: 5 p.m. Eastern Time on December 28, 2004.

8. American Transmission Company, LLC

[Docket No. ER05-240-001]

Take notice that on December 7, 2004, American Transmission Company, LLC (ATCLLC) submitted an attachment A, amending page 1 of the agreement to its initial filing on November 18, 2004.

Comment Date: 5 p.m. Eastern Time on December 28, 2004.

9. Westbank Energy Capital, LLC

[Docket No. ER05-294-000]

Take notice that on December 6, 2004, Westbank Energy Capital, LLC (Westbank) petitioned the Commission for acceptance of Westbank Rate Schedule No.1; the granting of certain blanket approvals, including the authority to sell electricity at market-based rates; and the waiver of certain Commission regulations. Westbank states that it intends to engage in wholesale electric power and energy purchases and sales as a marketer. Westbank further states that it is not in the business of generating or transmitting electric power. Westbank indicates that it is a limited liability corporation formed under the laws of Texas, with its primary place of business in Dallas, TX.

Comment Date: 5 p.m. Eastern Time on December 27, 2004.

10. Westar Energy, Inc.

[Docket No. ER05-307-000]

Take notice that on December 7, 2004, Westar Energy, Inc. (Westar) submitted an executed agreement between Westar and PR&W Electric Cooperative Association, Inc. (PRW). Westar states that this agreement allows Westar to deliver electric power and energy across PRW's facilities for redelivery to Westar's Carnahan Creek metering point from time to time.

Westar states that copies of the filing were served upon the Kansas Corporation Commission and PRW.

Comment Date: 5 p.m. Eastern Time on December 28, 2004.

11. Westar Energy, Inc.

[Docket No. ER05-308-000]

Take notice that on December 7, 2004, Westar Energy, Inc. (Westar) submitted an executed agreement between Westar and the Flint Hills Electric Cooperative Association, Inc. (FHREC). Westar states that this agreement allows Westar to deliver electric power and energy across FHREC's facilities for redelivery to Westar's Delavan metering point from time to time.

Westar states that the copies of the filing were served upon the Kansas Corporation Commission and FHREC.

Comment Date: 5 p.m. Eastern Time on December 28, 2004.

12. Old Dominion Electric Cooperative

[Docket No. ER05-309-000]

Take notice that on December 7, 2004, Old Dominion Electric Cooperative (Old Dominion) filed an application under section 205 of the Federal Power Act and sections 35.12 and 131.53 of the Commission's rules and regulations, for approval of old Dominion's application for acceptance of initial tariff; a notice of cancellation of existing tariff; and a request for waivers. Specifically, Old Dominion states that it tendered for filing Old Dominion Electric Cooperative FERC Electric Tariff Original Volume No. 3, requesting an effective January 1, 2005.

Old Dominion states that a copy of the filing was served upon each of the Member Cooperatives and the public service commissions in the Commonwealth of Virginia and the states of Delaware, Maryland and West Virginia.

Comment Date: 5 p.m. Eastern Time on December 28, 2004.

13. Spokane Energy, LLC

[Docket No. ER05-310-000]

Take notice that on December 7, 2004, Spokane Energy, LLC (Spokane Energy) filed with the Commission a revised Market Based Rate Tariff to incorporate the Market Behavior Rules contained in the Commission's November 17, 2003 Order Amending Market-Based Tariffs and Authorizations, 105 FERC ¶ 61,218 (2003).

Comment Date: 5 p.m. Eastern Time on December 28, 2004.

14. Avista Corporation

[Docket No. ER05-312-000]

Take notice that on December 7, 2004, Avista Corporation d/b/a/ Avista Utilities (Avista Utilities) filed with the Commission a revised Market Based Rate Tariff to incorporate the Market Behavior Rules contained in the Commission's November 17, 2003 Order Amending Market-Based Tariffs and Authorizations, 105 FERC ¶ 61,218 (2003).

Comment Date: 5 p.m. Eastern Time on December 28, 2004.

15. Avista Energy, Inc.

[Docket No. ER05-313-000]

Take notice that on December 7, 2004, Avista Energy, Inc (Avista Energy) filed with the Federal Energy Regulatory Commission a revised Market Based Rate Tariff to incorporate the Market Behavior Rules contained in the Commission's November 17, 2003 Order Amending Market-Based Tariffs and Authorizations, 105 FERC ¶ 61,218 (2003). Avista Energy states that it is an investor-owned public utility established and organized under the laws of the State of Washington, with its principal offices located in Spokane, Washington.

Comment Date: 5 p.m. Eastern Time on December 28, 2004.

16. California Independent System Operator Corporation

[Docket No. ER05-314-000]

Take notice that on December 8, 2004, the California Independent System Operator Corporation (ISO) submitted an informational filing in accordance with Article IX, section B of the Stipulation and Agreement approved by the Commission on May 28, 1999, California Independent System Operator Corp., 87 FERC ¶ 61,250 (1999) (Stipulation and Agreement). ISO states that this provision requires the ISO to provide on a confidential basis to the Commission (1) information regarding any notice from an RMR Unit requesting a change of Condition; (2) the date the chosen Condition will begin; and (3) if the change is from Condition 2, the applicable level of Fixed Option Payment.

ISO further states as required by the provision, it has provided notice of the changes of condition described in the informational filing (subject to the applicable Non-Disclosure and Confidentiality Agreement in the RMR Contract) to the designated RMR contact persons at the California Public Utilities Commission, the California Electricity Oversight Board, the applicable Responsible Utilities, and the relevant RMR Owners.

Comment Date: 5 p.m. Eastern Time on December 29, 2004.

17. American Electric Power Service Corporation

[Docket No. ER05-315-000]

Take notice that on December 8, 2004, the American Electric Power Service Corporation (AEPSC), as agent for Appalachian Power Company tendered for filing first revised service agreement No. 276 which supersedes original service agreement No. 276 between Appalachian Power Company and Twelvepole Creek, LLC. AEP requests an effective date of December 8, 2004.

AEPSC states that a copy of the filing was served upon the Public Service Commission of West Virginia.

Comment Date: 5 p.m. Eastern Time on December 29, 2004.

18. Brent Boyles

[Docket No. ID4186-000]

Take notice that on November 24, 2004, Brent Boyles (Boyles) tendered for filing with the Commission an application for authority to hold interlocking positions in Northern Maine Independent System Administrator, Inc., Maine Public Service Company, and Maine Yankee Atomic Power Company.

Comment Date: 5 p.m. Eastern Time on December 27, 2004.

19. Decatur Energy Center, LLC

[Docket Nos. QF01-103-003 and EL05-31-000]

Take notice that on November 29, 2004, Decatur Energy Center, LLC (Applicant) tendered for filing a petition for limited waiver of the Commission's operating and efficiency standards for a topping-cycle cogeneration facility.

Comment Date: 5 p.m. Eastern Time on December 29, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3724 Filed 12-17-04; 8:45 am]

BILLING CODE 6717-01-P